DEPARTMENT OF EDUCATION

34 CFR Chapter VI

[Docket ID ED-2014-OPE-0036; CFDA Number 84.016A.]

Final Priority; Undergraduate International Studies and Foreign Language Program

AGENCY: Office of Postsecondary Education, Department of Education.

ACTION: Final Priority.

SUMMARY: The Acting Assistant Secretary for Postsecondary Education announces a priority under the Undergraduate International Studies and Foreign Language (UISFL) Program administered by the International and Foreign Language Education Office. The Acting Assistant Secretary may use this priority for competitions in fiscal year (FY) 2014 and later years. We take this action to focus Federal financial assistance on an identified national need. We intend the priority to address a gap in the types of institutions, faculty, and students that have historically benefited from international education opportunities.

DATES: Effective Date: This priority is effective July 11, 2014.

FOR FURTHER INFORMATION CONTACT: Tanyelle Richardson, U.S. Department of Education, 1990 K Street NW., Room 6099, Washington, DC 20006-8521. Telephone: (202) 502-7626 or by email: tanyelle.richardson@ed.gov.

If you use a telecommunications device for the deaf (TDD) or a text telephone (TTY), call the Federal Relay Service (FRS), toll free, at 1-800-877-8339.

SUPPLEMENTARY INFORMATION: Purpose of Program: The UISFL Program provides grants for planning, developing, and carrying out programs to strengthen and improve undergraduate instruction in international studies and foreign languages.

Program Authority: 20 U.S.C. 1124.

Applicable Program Regulations: 34 CFR parts 655 and 658.

We published a notice of proposed priority for this program in the Federal Register on March 18, 2014 (79 FR 15087). That notice contained background information and our reasons for proposing this particular priority.

There are technical differences between the proposed priority and this final priority. We have clarified how applicants that are consortia or partnerships may meet the priority.

Public Comment: In response to our invitation in the notice of proposed priority, six parties submitted comments.

Generally, we do not address technical and other minor changes.

Analysis of Comments and Changes: An analysis of the comments and any changes in the priority since publication of the notice of proposed priority follows.

Comment: Several commenters noted their support of the proposed priority, and praised the Department's efforts to promote the participation of Minority-Serving Institutions (MSIs) and community colleges in programs funded under Title VI of the Higher Education Act of 1965, as amended (HEA), and to serve students that are historically under-represented in international education programs.

Discussion: We appreciate the commenters' support.

Changes: None.

Comment: One commenter suggested that traditional four-year colleges and universities are better prepared to serve as the lead applicant in a consortium than are community colleges and MSIs, as they are better able, in the current fiscal climate, to devote resources to study-abroad activities and the study of critical languages. The commenter also suggested that community colleges and MSIs struggle to continue and sustain efforts begun with UISFL grant funds.

Discussion: We disagree that community colleges and MSIs would not be able to serve effectively as the lead applicant in a consortium for this program. This priority aims to increase the number of MSIs and community colleges that become grantees, in order to increase their students' access to academic coursework, instructional activities, and training that would better prepare them for the 21st-century global economy, careers in international service, and lifelong engagement with the diverse communities in which they will live.

Although the Department notes the commenter's concerns, the UISFL Program is not meant to be utilized solely for study abroad or critical language study efforts. The program is also intended to support institution-wide internationalization efforts that are customized according to the institution's and its students' needs and goals. This could include a program of study that does not include study abroad or critical language study.

Where fiscal and other resources are limited, the Department encourages applicants to the UISFL Program to design consortium applications in which institutions join together to build upon the resources, financial and otherwise, of their partners. In this way, the partnership increases the likelihood of projects being sustained and fully supported. In addition, the program's matching requirement is meant to encourage sustainability and demonstrate commitment by an applicant institution's administration.

Changes: None.

Comment: One commenter suggested that the Department has underestimated the number of additional burden hours required to complete new, OMB-approved forms on project- specific performance measures. The commenter also suggested that new applicants to the program would be at a disadvantage until they are familiar with the forms.

Discussion: Consistent with the Paperwork Reduction Act of 1995 and agency practice, the Department calculated burden hours only for applicants, not grantees. With regard to the additional burden hours related to evaluation and performance measures, applicants will not be required to fully complete the performance measure forms, but to provide a project goal statement with accompanying performance measures and project activities.

Note that UISFL applicants that are selected as grantees will be required to collect and report on additional performance measure data, and the burden hours for these collections will be addressed through separate processes. We believe that the estimated burden hours to accomplish this task are accurate. Further, we believe that the minor burden is outweighed by the benefit because effective program evaluation will allow IFLE to monitor accountability for the expenditure of public funds, enhance congressional decision-making by providing Congress with objective information on the effectiveness of Federal programs, and promoting Federal programs' results, delivery of services, and customers' satisfaction.

Changes: None.

Final Priority

Final Priority: Applications from Minority-Serving Institutions (MSIs) (as defined in this notice) or community colleges (as defined in this notice), whether as individual applicants or as part of a consortium of institutions of higher education (IHEs) (consortium) or a partnership between nonprofit educational organizations and IHEs (partnership).

An application from a consortium or partnership that has an MSI or community college as the lead applicant will receive more points under this priority than applications where the MSI or community college is a member of a consortium or partnership but not the lead applicant.

A consortium or partnership must undertake activities designed to incorporate foreign languages into the curriculum of the MSI or community college and to improve foreign language and international or area studies instruction on the MSI or community college campus.

For the purpose of this priority:

Community college means an institution that meets the definition in section 312(f) of the Higher Education Act of 1965, as amended (HEA) (20 U.S.C. 1058(f)); or an institution of higher education (as defined in section 101 of the HEA (20 U.S.C. 1001)) that awards degrees and certificates, more than 50 percent of which are not bachelor's degrees (or an equivalent) or master's, professional, or other advanced degrees.

Minority-Serving Institution means an institution that is eligible to receive assistance under sections 316 through 320 of part A of Title III, under part B of Title III, or under Title V of the HEA.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 6, 2014.
Lynn B. Mahaffie,
Acting Assistant Secretary for Postsecondary Education.

[FR Doc. 2014-13654 Filed 6-10-14; 8:45 am]

BILLING CODE 4000-01-P